DEPARTMENT OF ENERGY

Federal Energy Regulatory Commission

[Docket No. RP01-253-000]

Transcontinental Gas Pipe Line Corporation; Notice of Tariff Filing

March 6, 2001.

Take notice that on March 1, 2001 Transcontinental Gas Pipe Line Corporation (Transco) tendered for filing as part of its FERC Gas Tariff, Third Revised Volume No. 1, certain revised tariff sheets which sheets are enumerated in Appendix A attached to the filing, with an effective date of April 1, 2001.

Transco states that the instant filing is submitted pursuant to section 38 of the General Terms and Conditions of Transco's FERC Gas Tariff which provides that Transco will file, to be effective each April 1, a redetermination of its fuel retention percentages applicable to transportation and storage rate schedules. The derivations of the revised fuel retention percentages included therein are based on Transco's estimate of gas required for operations (GRO) for the forthcoming annual period April 2001 through March 2002 plus the balance accumulated in the Deferred GRO Account at January 31, 2001.

Transco states that included in the filing is an increase of 3.52 MMDt in the estimated GRO for the forthcoming annual period due to the results of an inventory verification study conducted in 2000 at Transco's Eminence Storage Facility, a salt-cavern storage facility located in Mississippi. Appendix B attached to the filing contains workpapers supporting the derivation of the revised fuel retention factors contained therein.

Transco states that copies of the filing are being mailed to its affected customers and interested State Commissions.

Any person desiring to be heard or protest said filing should file a motion to intervene or a protest with the Federal Energy Regulatory Commission, 888 First Street, NE., Washington, DC 20426, in accordance with sections 385.214 or 385.211 of the Commission's Rules and Regulations. All such motions or protests must be flied in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be flied electronically via the internet in lieu of paper. See, 18 CFR 385.2001(a)(1)(iii) and the instructions on the Commission's web site at ­ http://www.ferc.fed.us/efi/doorbell.htm.

David P. Boergers,
Deputy Secretary.

[FR Doc. 01-6003 Filed 3-9-01; 8:45 am]

BILLING CODE 6717-01-M